FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 6, 2006.

A. Federal Reserve Bank of St. Louis (Glenda Wilson, Community Affairs Officer) 411 Locust Street, St. Louis, Missouri 63166-2034:

1. Leon Brasher, Fredonia, Kentucky; to gain control of Fredonia Valley Bancorporation, Inc., Fredonia, Kentucky, and thereby indirectly gain control of Fredonia Valley Bank, Fredonia, Kentucky.

B. Federal Reserve Bank of Kansas City (Donna J. Ward, Assistant Vice President) 925 Grand Avenue, Kansas City, Missouri 64198-0001:

1. The Watts Revocable Declaration of Trust dtd 11/6/96 (Richard J. Watts, Trustee), RJW Enterprises, and Richard J. Watts, all of Ramona, California, and Janice and Jack A. Reccoforte, El Cajon, California; acting as a group to retain control of Ameribanc Holdings, Inc., and thereby indirectly retain control of The Bank of Durango, both of Durango, Colorado.

Board of Governors of the Federal Reserve System, June 16, 2006.
Robert deV. Frierson,
Deputy Secretary of the Board.

[FR Doc. E6-9737 Filed 6-20-06; 8:45 am]

BILLING CODE 6210-01-S